DEPARTMENT OF COMMERCE

National Oceanic and Atmospheric Administration

Agency Information Collection Activities; Submission to the Office of Management and Budget (OMB) for Review and Approval; Comment Request; Tornado Watch/Warning Post-Event Evaluation

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on January 15, 2021, (86 FR 3998) during a 60-day comment period. This notice allows for an additional 30 days for public comments.

Agency: National Oceanic and Atmospheric Administration (NOAA), Commerce.

Title: Tornado Watch/Warning Post Event Evaluation.

OMB Control Number: 0648-XXXX.

Form Number(s): None.

Type of Request: Regular (New information collection).

Number of Respondents: 1,500.

Average Hours per Response: 0.1hrs.

Total Annual Burden Hours: 150.

Needs and Uses: This is a request for a new collection of information.

Each year over 1000 tornadoes affect communities across the United States, yet very little is known about how individuals receive, interpret, and respond to information from NOAA relating to this hazard. In fact, only a small sample of tornadoes ever receive study, and most often those are only the largest tornadoes. No generalizable information on tornado warning response after real-world events exists. The National Weather Service (NWS) and National Severe Storms Laboratory have designed this data collection instrument to allow for more routine collection of this information. Respondents will include members of the U.S. public who have recently (within the previous 30 days) been in or near a tornado, and they will be asked questions about the ways they received, understood, and responded to NWS watch/warning information. The information would be collected by NWS forecasters using their Damage Assessment Tool (DAT) and also by members of the public who voluntarily access a web tool developed by the National Severe Storms Laboratory. The information will be used as part of a pilot study to explore methods for more systematically collecting post-event data in support of program evaluation for NOAA's tornado watch/warning system.

Affected Public: Individual Households.

Frequency: Whenever a tornado impacts an individual anywhere within the United States of America.

Respondent's Obligation: Voluntary.

Legal Authority: This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Chief Information Officer, Commerce Department.

[FR Doc. 2021-16217 Filed 7-29-21; 8:45 am]

BILLING CODE 3510-KE-P